DEPARTMENT OF THE INTERIOR

Geological Survey

[GX24MR00G6ZW800; OMB Control Number 1028-NEW]

Agency Information Collection Activities; Panhandle Terrapin Project

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before April 8, 2024.

ADDRESSES: Send your comments on this information collection request (ICR) by mail to USGS, Information Collections Officer, 12201 Sunrise Valley Drive, MS 159, Reston, VA 20192 or by email to gs-info_collections@usgs.gov. Please reference OMB Control Number 1028-NEW Panhandle Terrapin Project in the subject line of your comments.

FOR FURTHER INFORMATION CONTACT: To request additional information about this ICR, contact Margaret Lamont by email at mlamont@usgs.gov or by telephone at 352-209-4306. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the PRA (44 U.S.C. 3501 et seq.) and 5 CFR 1320.8(d)(1), all information collections require approval. As part of our continuing effort to reduce paperwork and respondent burdens, we invite the public and other federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The diamondback terrapin (Malaclemys terrapin) is a coastal turtle species that ranges along the U.S. coast from Massachusetts to Texas. As the only turtle species to live in brackish water (a mix of salt and fresh water), diamondback terrapins are typically found in habitats such as salt marshes, mangroves, estuaries, and bays. Their small size and cryptic coloring make locating terrapins difficult and, as such, terrapin populations often go undetected even within protected areas such as wildlife refuges and national parks. Because of this, there are large knowledge gaps about terrapin ecology. For example, the International Union for the Conservation of Nature did not consider Northwest Florida to be part of the diamondback terrapin's range, however new studies suggest that several relatively large populations inhabit this region. Since 2007, Florida Sea Grant has utilized citizen scientists to help locate terrapin nesting beaches in Northwest Florida. In 2017, the USGS partnered with Florida Sea Grant to expand these surveys. The new data-collection effort described here would support those surveys by providing an easily accessible, online data-collection method that would provide information on diamondback terrapin nesting activity and nesting habitat and potential anthropogenic threats at terrapin nesting sites. Citizens involved in the surveys receive training from Florida Sea Grant and the USGS prior to the start of the nesting season. Contributors are then assigned a survey route that is monitored weekly from April through October. When evidence of terrapin nesting activity is observed (e.g., a nesting terrapin, terrapin tracks, or eggshells), contributors would document the date, time, location, habitat, and environmental variables (including the presence of any invasive species), and the presence of predators and (or) potential anthropogenic threats (e.g., pets, garbage, or boats). Citizens also provide the date and time that their survey begins and ends, along with their initials and a way to contact them. Finally, monthly head count surveys are also conducted at each site which involves contributors sitting at the site for 30 minutes and documenting the number of terrapin heads that appear above the water's surface during that time period.

Title of Collection: Panhandle Terrapin Project.

OMB Control Number: 1028-NEW.

Form Number: None.

Type of Review: New.

Respondents/Affected Public: Individuals.

Total Estimated Number of Annual Respondents: 100.

Total Estimated Number of Annual Responses: 1,200.

Estimated Completion Time per Response: 60 minutes.

Total Estimated Number of Annual Burden Hours: 1,200 hours.

Respondent's Obligation: Voluntary.

Frequency of Collection: Weekly.

Total Estimated Annual Nonhour Burden Cost: None.

An agency may not conduct or sponsor, nor is a person required to respond to, a collection of information unless it displays a currently valid OMB control number.

The authority for this action is the PRA (44 U.S.C. 3501 et seq.).

Margaret M. Lamont,
Research Biologist, USGS Wetland and Aquatic Research Center.

[FR Doc. 2024-02591 Filed 2-7-24; 8:45 am]

BILLING CODE 4338-11-P